DEPARTMENT OF HEALTH AND HUMAN SERVICES

OWH Observance Champions; Correction

AGENCY: Office of the Assistant Secretary for Health, Office of the Secretary, Department of Health and Human Services.

ACTION: Notice; correction.

SUMMARY: The Office of the Assistant Secretary for Health published a document in the Federal Register of September 14, 2022, inviting public and private sector organizations to apply to become a Women's Health Champion. The document includes contact information for a staff member who is no longer working in the Office on Women's Health.

SUPPLEMENTARY INFORMATION:

Correction

In the Federal Register of September 14, 2022, in FR Doc. 2022-19839, on page 56426, correct the For further information contact caption to read:

FOR FURTHER INFORMATION CONTACT: Gabriella Forte. Office on Women's Health, Office of the Assistant Secretary for Health, U.S. Department of Health and Human Services; 1101 Wootton Parkway, Rockville, MD 20852; Telephone: 202-690-7650. Email: Womenshealth@hhs.gov.

Dated: March 20, 2023.
Richelle Marshall,
Deputy Director for Operations and Management, Office of the Assistant Secretary for Health, Office on Women's Health.

[FR Doc. 2023-06319 Filed 3-27-23; 8:45 am]

BILLING CODE 4150-33-P